FEDERAL MARITIME COMMISSION

Ocean Transportation Intermediary License; Reissuance

Notice is hereby given that the following Ocean Transportation Intermediary license has been reissued by the Federal Maritime Commission pursuant to section 19 of the Shipping Act of 1984 (46 U.S.C. chapter 409) and the regulations of the Commission pertaining to the licensing of Ocean Transportation Intermediaries, 46 CFR part 515.

License No. | Name/Address | Date Reissued
021037N | All West Coast Shipping Inc., dba West Coast Shipping, 1065 Broadway Avenue, San Pablo, CA 94806 | November 7, 2010.

Tanga S. FitzGibbon,
Deputy Director, Bureau of Certification and Licensing.

[FR Doc. 2010-33352 Filed 1-4-11; 8:45 am]

BILLING CODE 6730-01-P